DEPARTMENT OF STATE

[Public Notice 7019]

U.S. National Commission for UNESCO Notice of Teleconference Meeting

The U.S. National Commission for UNESCO will hold a conference call on Friday, June 11, 2010, beginning at 3 p.m. Eastern Time. The teleconference meeting will be closed to the public to allow the Commission to discuss applications for the 2010 UNESCO International Literacy Prizes. This call will be closed pursuant to Section 10(d) of the Federal Advisory Committee Act and 5 U.S.C. 552b(c)(6) because it will involve discussions of information of a personal nature regarding the relative merits of individual applicants where disclosure would constitute a clearly unwarranted invasion of privacy.

For more information contact Elizabeth Kanick, Executive Director of the U.S. National Commission for UNESCO, Washington, DC 20037. Telephone: (202) 663-0026; fax: (202) 663-0035; e-mail: DCUNESCO@state.gov.

Dated: May 13, 2010.
Elizabeth Kanick,
Executive Director, U.S. National Commission for UNESCO, Department of State.

[FR Doc. 2010-12319 Filed 5-20-10; 8:45 am]

BILLING CODE 4710-19-P